FEDERAL COMMUNICATIONS COMMISSION

47 CFR Part 0

[CG Docket No. 12-39; DA 12-1545]

Termination of Certain Proceedings as Dormant

AGENCY: Federal Communications Commission.

ACTION: Final rule; termination of proceedings.

SUMMARY: In this document, the Commission, via the Consumer and Governmental Affairs Bureau (CGB) terminates, as dormant, certain docketed Commission proceedings. Termination of these inactive proceedings furthers the Commission's organizational goals of increasing the efficiency of its decision-making, modernizing the agency's processes in the digital age, and enhancing the openness and transparency of Commission proceedings for practitioners and the public.

DATES: Effective October 5, 2012.

ADDRESSES: Federal Communications Commission, 445 12th Street SW., Washington, DC 20554.

FOR FURTHER INFORMATION CONTACT: Deborah Broderson, Consumer and Governmental Affairs Bureau at (202) 418-0652, or email: Deborah.Broderson@fcc.gov.

SUPPLEMENTARY INFORMATION: This is a synopsis of the Commission's Order, Termination of Certain Proceedings as Dormant, document DA 12-1545, adopted September 27, 2012 and released on September 27, 2012, in CG Docket No. 12-39. On June 3, 2011, the Commission sought comment on whether certain listed docketed Commission proceedings should be terminated as dormant. See 76 FR 35892, June 20, 2011. On September 30, 2011, in a subsequent action, the Commission terminated, as dormant, certain docketed Commission proceedings. See 76 FR 70902, November 16, 2011. On February 15, 2012, the Commission sought comment on whether additional docketed Commission proceedings should be terminated as dormant. See 77 FR 13322, March 6, 2012. The full text of document DA 12-1545 and copies of any subsequently filed documents in this matter will be available for public inspection and copying during regular business hours at the FCC Reference Information Center, Portals II, 445 12th Street SW., Room CY-A257, Washington, DC 20554. Document DA 12-1545 and copies of subsequently filed documents in this matter may also be purchased from the Commission's duplicating contractor, Best Copying and Printing, Inc. (BCPI), at Portals II, 445 12th Street SW., Room CY-B402, Washington, DC 20554. Customers may contact BCPI at its Web site, www.bcpiweb.com, or by calling (202) 488-5300. Document DA 12-1545 can also be downloaded in Word or Portable Document Format (PDF) at: http://hraunfoss.fcc.gov/edocs_public/attachmatch/DA-12-1545A1.doc, or http://hraunfoss.fcc.gov/edocs_public/attachmatch/DA-12-1545A1.pdf.

To request materials in accessible formats for people with disabilities (Braille, large print, electronic files, audio format), send an email to fcc504@fcc.gov or call the Consumer and Governmental Affairs Bureau at (202) 418-0530 (voice), (202) 418-0432 (TTY).

Final Paperwork Reduction Act of 1995 Analysis

This document does not contain information collection requirements subject to the Paperwork Reduction Act of 1995, Public Law 104-13. In addition, therefore, it does not contain any information collection burden for small business concerns with fewer than 25 employees, pursuant to the Small Business Paperwork Relief Act of 2002, Public Law 107-198, see 44 U.S.C. 3506(c)(4).

Synopsis

1. On February 4, 2011, the Commission released Amendment of Certain of the Commission's Part 1 Rules of Practice and Procedure and Part 0 Rules of Commission Organization, Report and Order, FCC 11-16, in CG Docket No. 11-44, published at 76 FR 24383, May 2, 2011 (Procedure Order), which revised portions of its Part 1—Practice and Procedures and Part 0—Organizational rules. The amendment of § 0.141 of the Commission's organizational rules delegated authority to the Chief, CGB to conduct periodic review of all open dockets with the objective of terminating those that were inactive. The Commission stated that termination of such proceedings also will include the dismissal as moot of any pending petition, motion, or other request for relief in the terminated proceeding that is procedural in nature or otherwise does not address the merits of the proceeding. On February 15, 2012, the Commission released Termination of Certain Proceedings as Dormant, Public Notice, DA 12-220, CG Docket No. 12-39, published at 77 FR 13322, March 6, 2011 (Termination Public Notice), which identified those dockets that could potentially be terminated and provided interested parties the opportunity to file comments on these proposed terminations. Based upon CGB's review of the two comments received in response to the Termination Public Notice, and for the reasons given below, CGB hereby terminates the proceedings that are listed in the Attachment to DA 12-1545, which were previously listed in DA 12-220. See http://hraunfoss.fcc.gov/edocs_public/attachmatch/DA-12-220A1.doc.

2. CGB received two comments requesting that particular proceedings noted in the Termination Public Notice remain open. Based upon CGB's review of these comments, for the reasons noted below, CGB rejects the request of the New Jersey Broadcasters Association (NJBA) to retain RM-11099. Based on the request of the Office of Communication of the United Church of Christ, Inc., National Hispanic Media Coalition, Campaign Legal Center, Media Access Project, Benton Foundation, and Free Press (collectively, UCC), and our further evaluation, MB Docket No. 05-6 will remain open and will not be terminated at this time. On our own motion as described below, CGB has also determined not to terminate two additional proceedings listed in the Termination Public Notice.

3. NJBA asks that we maintain as active RM-11099, which had been initiated by the May 27, 2004 filing of NJBA's Petition entitled “In the Matter of the Commissions' Rules to Protect New Jersey Listeners from FM Translator and Low Power FM 100 Watt Interference.” As acknowledged by NJBA, materials in both its Petition and its Comments relate to the LPFM and FM translator services. On March 19, 2012, the Commission released a Fifth Report and Order and Fourth Further Notice of Proposed Rulemaking in MM Docket No. 99-25, published at 77 FR 20756, April 6, 2012, a proceeding that relates specifically to those services. Given the common subject matter, the materials in the proceeding that the NJBA seeks to keep open are applicable to and may be filed again in ongoing MM Docket No. 99-25. For this reason, CGB denies NJBA's request to keep RM-11099 open.

4. The UCC requests that the Commission keep open MB Docket No. 05-6. Although the Termination Public Notice proposed closing this proceeding, based upon both the UCC's comments and CGB's additional evaluation, we find that further action in the proceeding, which proposes modification of the Commission's rules to make more clear broadcasters' public notice of the proposed sale of their stations, may be required. Accordingly, CGB will not terminate the proceeding at this time.

5. As a final matter, although the Termination Public Notice proposed closing Rules and Policies Concerning Attribution of Joint Sales Agreements In Local Television Markets (MB Docket No. 04-256) and 1998 Biennial Regulatory Review—Review of Accounts Settlement in the Maritime Mobile and Mobile-Satellite Radio Services (IB Docket No. 98-96), upon further sua sponte evaluation, CGB finds that further action may also be necessary in these docketed proceedings. Accordingly, CGB will not terminate these proceedings at this time. In addition, the Media Bureau has concluded that the termination of the proceeding Retention by Broadcasters of Program Recordings (MB Docket No. 04-232) will not affect the Commission's authority to initiate enforcement actions, as it deems appropriate, and accordingly CGB terminates that proceeding as dormant.

Regulatory Flexibility Act

6. The Commission's action does not require notice and comment and is not subject to the Regulatory Flexibility Act of 1980, as amended. See 5 U.S.C. 601(2), 603(a). The Commission nonetheless notes that it anticipates that the rules adopted will not have a significant economic impact on a substantial number of small entities. As described above, the Commission primarily changes its own internal procedures and organizations and does not impose substantive new responsibilities on regulated entities. There is no reason to believe termination of certain dormant proceedings would impose significant costs on parties to Commission proceedings. To the contrary, the Commission takes the actions herein with the expectation that overall they will make dealings with the Commission quicker, easier, and less costly for entities of all size.

Congressional Review Act

The Commission will not send a copy of document DA 12-1545 pursuant to the Congressional Review Act, see 5 U.S.C. 801(a)(1)(A) because the Commission is not adopting, amending, revising, or deleting any rules.

Ordering Clauses

Pursuant to sections 1, 4(i), and 4(j), of the Communications Act of 1934, as amended, 47 U.S.C. 154(i), and (j) and § 0.141 of the Commission rules, the proceedings listed in the Attachment to DA 12-1545, which can be downloaded in Word or Portable Document Format (PDF) at: http://hraunfoss.fcc.gov/edocs_public/attachmatch/DA-12-1545A1.doc or http://hraunfoss.fcc.gov/edocs_public/attachmatch/DA-12-1545A1.pdf, are terminated.

Federal Communications Commission.
Kris Anne Monteith,
Acting Chief, Consumer and Governmental Affairs Bureau.

[FR Doc. 2012-24643 Filed 10-4-12; 8:45 am]

BILLING CODE 6712-01-P